DEPARTMENT OF COMMERCE

National Oceanic and Atmospheric Administration

50 CFR Part 660

[Docket No. 021209300-3048-02 I.D. 052103A]

Fisheries off West Coast States and in the Western Pacific; Pacific Coast Groundfish Fishery; Annual Specifications and Management Measures; Trip Limit Adjustments

AGENCY: National Marine Fisheries Service (NMFS), National Oceanic and Atmospheric Administration (NOAA), Commerce.

ACTION: Inseason adjustments to the trawl rockfish conservation area boundaries; request for comments.

SUMMARY: NMFS announces changes to the closed areas affecting the limited entry trawl fleet and open access exempted trawl fleet, also known as the trawl Rockfish Conservation Areas (trawl RCAs). For the trawl “B” platoon, the closed areas for the cumulative limit period beginning May 16 through June 30, 2003, will be the same for the “A” platoon. For the remainder of the “B” platoon cumulative limit period, from July 1 through July 15, 2003, the “B” platoon will be subject to the closed areas that were in place for the “A” platoon through June 30, 2003. These actions, which are authorized by the Pacific Coast Groundfish Fishery Management Plan (FMP), will allow fisheries access to more abundant groundfish stocks while protecting overfished and depleted stocks.

DATES: Effective 0001 hours local time May 28, 2003, until the 2004 annual specifications and management measures are effective, unless modified, superseded, or rescinded through a publication in the Federal Register. Comments on this action will be accepted through June 17, 2003.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen or Jamie Goen (Northwest Region, NMFS), phone: 206-526-6140; fax: 206-526-6736; and e-mail: carrie.nordeen@noaa.gov or jamie.goen@noaa.gov.

SUPPLEMENTARY INFORMATION:

Electronic Access

This Federal Register document is available on the Government Printing Office′s website at: http://www.access.gpo.gov/su_docs/ca/docs/aces/aces140.html. Background information and documents are available at the NMFS Northwest Region website at: http://www.nwr.noaa.gov/1sustfsh/gdfsh01.htm and at the Pacific Fishery Management Council′s website at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003, and the final rule for March 1 - December 31, 2003 was published in the Federal Register on March 7, 2003 (68 FR 11182). The final rule has been subsequently amended at 68 FR 18166 (April 15, 2003), at 68 FR 23901 (May 6, 2003), and at 68 FR 23924 (May 6, 2003).

The following changes to current groundfish management measures were recommended by the Pacific Council, in consultation with Pacific Coast Treaty Tribes and the States of Washington, Oregon, and California, at its April 7-11, 2003, meeting in Vancouver, WA.

The NMFS West Coast Groundfish Observer Program (Observer Program) released observer data collected from September 2001 through August 2002 at a bycatch workshop in January 2003. At the Pacific Council′s April meeting, the Scientific and Statistical Committee (SSC) reported that they considered bycatch rates based on observer data in the groundfish trawl fishery to be the best available scientific data for use in the bycatch model. Both the SSC and the Groundfish Management Team (GMT) supported incorporating trawl bycatch rates from the Observer Program into the bycatch model as soon as possible. Following the SSC and GMT recommendations, the Pacific Council decided to use the preliminary observer-based trawl bycatch rates in the bycatch model to develop inseason adjustments to trip limits and area closures that were effective May 1, 2003, in addition, it was decided to shift the trawl RCA as soon as new boundaries could be developed.

Based on the new Observer Program information on bycatch rates in the trawl fishery for groundfish, the Pacific Council recommended changes to the boundaries for the trawl RCA (the area that is closed to fishing for groundfish with trawl gear) along with trip limit changes. In particular, new estimates of canary rockfish bycatch in the trawl fishery north of 40°10′ N. lat. and bocaccio bycatch in the trawl fishery south of 40°10′ N. lat. are higher than previously estimated. At these higher bycatch rates, the OYs for canary rockfish and bocaccio would be reached before the end of the year. In order to slow the rate of interception for these overfished rockfish species, the trawl RCA is being shifted to better align with the observed interception rates of these species. Prior to May 1, 2003, the trawl RCA north of 40°10′ N. lat. was scheduled to extend between boundaries approximating the 100 fm (183 m) and 250 fm (457 m) depth contours. Trip limit changes and, north of 40°10′ N. lat., a change in the trawl RCA were announced previously in the Federal Register (68 FR 23901, May 6, 2003) and were effective May 1, 2003. The trawl RCA north of 40°10′ N. lat. was temporarily extended from the shoreline to a boundary approximating the 250 fm (457 m) depth contour until new boundaries could be put in place. Implementation of the new boundaries was delayed beyond the inseason adjustments that were effective May 1, 2003, until coordinates for the new boundaries were developed and reviewed by Federal and state management and enforcement agencies.

Trawl RCA Restrictions North of 40°10′ N. lat.

Because data from the Observer Program showed that canary rockfish tend to be intercepted in trawl gear further inshore than previously expected, the trawl RCA north of 40°10′ N. lat. is being shifted with the intention of protecting canary rockfish, an overfished species. In evaluating the observer data, the Pacific Council′s GMT recommended that the trawl RCA′s eastern boundary be shifted from approximating the 100-fm (183-m) depth contour to approximating the 50-fm (91-m) depth contour to protect areas where canary are intercepted in the trawl fishery. Additionally, the GMT recommended that the western boundary be shifted from approximating the 250-fm (457-m) depth contour to approximating the 200-fm (366-m) depth contour to allow fishery access to more abundant deepwater groundfish stocks while still protecting areas with high rates of canary bycatch. Thus, for the remainder of the year, the trawl RCA north of 40°10′ N. lat. will extend from approximately the 50-fm (91-m) to 200-fm (366-m) depth contours. During November - December, the western trawl RCA boundary is to be modified to allow petrale fishing. In the interest of time, this new 200-fm (366-m) western boundary was not modified to allow petrale fishing but it will be modified by a subsequent inseason action that will be published in the Federal Register prior to November.

Trawl Restrictions South of 40°10′ N. lat.

The Pacific Council′s GMT also recommended moving the trawl RCA south of 40°10′ N. lat. to protect overfished species while allowing fishery access to more abundant groundfish stocks. This move entails the trawl RCA′s western boundary being shifted to approximate the 200-fm (266-m) depth contour, thus, creating a coastwide western boundary for the trawl RCA that approximates the 200-fm (266-m) depth contour. Between 40°10′ N. lat. and 34°27′ N. lat., the western boundary for the trawl RCA will shift from approximating the 250-fm (457-m) depth contour to approximating the 200-fm (366-m) depth contour in order to allow fishery access to more abundant deepwater stocks while protecting areas where both bocaccio and canary are intercepted. Between 34°27′ N. lat. and the U.S./Mexico border, the western boundary for the trawl RCA will shift from either approximating the 100-fm (183-m) or 150-fm (274-m) depth contour to approximating the 200- fm (266-m) contour to better align with depths where there is a high interception of bocaccio. Around southern California islands and seamounts, the trawl RCA outer boundary will also shift from approximating the 150-fm (274-m) depth contour to approximating the 200-fm (266-m) depth contour, again to protect bocaccio. Therefore, for the remainder of May through June and from September through December, the trawl RCA boundaries south of 40°10′ N. lat. will approximate the following depth contours: (1) between 40°10′ N. lat. and 34°27′ N. lat., the trawl RCA will extend from 60-fm (110-m) to 200-fm (266-m); (2) between 34°27′ N. lat. and the U.S./Mexico border, the trawl RCA will extend from 100-fm (183-m) to 200-fm (266-m); and (3) around California islands and seamounts south of 34°27′ N. lat., the trawl RCA will extend from the shoreline to 200-fm (266-m). During November - December, the western trawl RCA boundary is to be modified to allow petrale fishing. In the interest of time, this new 200-fm (366-m) western boundary was not modified to allow petrale fishing but it will be modified by a subsequent inseason action that will be published in the Federal Register prior to November 2003.

Additional measures to slow the incidental catch of bocaccio rockfish inshore of the trawl RCA have been implemented by prohibiting trawling inshore of 200-fm (366-m) during period 4 (July-August) from 40°10′ N. lat. to the U.S./Mexico border. This prohibition was implemented through the inseason adjustments published on May 6, 2003 (68 FR 23901).

NMFS Actions

For the reasons stated herein, NMFS concurs with the Pacific Council's recommendations and hereby announces the following changes to the 2003 specifications and management measures (68 FR 11182, March 7, 2003, as amended at 68 FR 18166, April 15, 2003, at 68 FR 23901, May 6, 2003, and at 68 FR 23925, May 6, 2003) to read as follows:

* * * * *

1. On page 11205, in section IV., under A. General Definitions and Provisions, in the third column, paragraphs (19)(c)(ii)and(iii) are revised to read as follows:

(ii) Between the U.S. border with Canada and 40°10′ N. lat., the location of the trawl RCA (i.e., the approximate depth contours that generally describe the eastern and western trawl RCA boundaries) throughout the year is provided in section IV.,(B), Table 3 (North). The specific latitude and longitude coordinates that define the eastern and western boundaries for the trawl RCA are provided below at paragraph (e) of this section.

(iii) Between 40°10′ N. lat. and the U.S. border with Mexico, the location of the trawl RCA (i.e., the approximate depth contours that generally describe the eastern and western trawl RCA boundaries) throughout the year is provided in section IV.,(B), Table 3 (South). The specific latitude and longitude coordinates that define the eastern and western boundaries for the trawl RCA are provided below at paragraph (e) of this section.

* * * * *

2. On page 11205, in section IV., under A. General Definitions and Provisions, in the third column, paragraphs (19)(d)(ii)and (iii) are revised to read as follows:

(ii) Between the U.S. border with Canada and 40°10′ N. lat., the location of the non-trawl RCA (i.e., the approximate depth contours that generally describe the eastern and western non-trawl RCA boundaries) throughout the year is provided in section IV.,(B), Table 4 (North) for the limited entry fishery and Table 5 (North) for the open access fishery. The specific latitude and longitude coordinates that define the eastern and western boundaries for the non-trawl RCA are provided below at paragraph (e) of this section.

(iii) Between 40°10′ N. lat. and the U.S. border with Mexico, the location of the non-trawl RCA (i.e., the approximate depth contours that generally describe the eastern and western non-trawl RCA boundaries) throughout the year is provided in section IV.,(B), Table 4 (South) for the limited entry fishery and Table 5 (South) for the open access fishery. The specific latitude and longitude coordinates that define the eastern and western boundaries for the trawl RCA are provided below at paragraph (e) of this section.

* * * * *

3. On page 11206, in section IV., under A. General Definitions and Provisions, paragraph (19)(e)(ii) is revised to read as follows:

(ii) The 75-fm (137-m) depth contour used north of 40°10′ N. lat. as an eastern boundary for the trawl RCA is defined by straight lines connecting all of the following points in the order stated:

* * * * *

4. On page 11209, in section IV., under A. General Definitions and Provisions, in the third column, paragraph (19)(e)(iv) is revised to read as follows:

(iv) The 250-fm (457-m) depth contour used north of 38°N. lat. as a western boundary for the trawl RCA is defined by straight lines connecting all of the following points in the order stated:

* * * * *

5. On page 11212, in section IV., under A. General Definitions and Provisions, in the first column, paragraph (19)(e)(vi) is revised to read as follows:

(vi) The 50-fm (91-m) depth contour used between the U.S. border with Canada and the Swiftsure Bank as an eastern boundary for the trawl RCA is defined by straight lines connecting all of the following points in the order stated:

(1) 48°30.15′ N. lat., 124°56.12′ W. long.;

(2) 48°28.29′ N. lat., 124°56.30′ W. long.;

(3) 48°29.23′ N. lat., 124°53.63′ W. long.; and

(4) 48°30.31′ N. lat., 124°51.73′ W. long.

* * * * *

6. On page 11212, in section IV., under A. General Definitions and Provisions, paragraph (19)(e)(vii) is revised to read as follows:

(vii) The 60 fm (110 m) depth contour used between 40°10′ N. lat. and 34°27′ N. lat. an eastern boundary for the trawl RCA is defined by straight lines connecting all of the following points in the order stated:

* * * * *

7. On page 11214, in section IV., under A. General Definitions and Provisions, in the second column, paragraph (19)(e)(xi) is revised to read as follows:

(xi) The 50-fm (91-m) depth contour used between the U.S. border with Canada and 34°27′ N. lat. as an eastern boundary for the trawl RCA is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°13.71′ N. lat., 124°16.90′ W. long.;

(23) 45°50.88′ N. lat., 124°09.68′ W. long.;

(24) 45°12.99′ N. lat., 124°06.71′ W. long.;

(25) 44°52.48′ N. lat., 124°11.22′ W. long.;

(26) 44°42.41′ N. lat., 124°19.70′ W. long.;

(27) 44°38.80′ N. lat., 124°26.58′ W. long.;

(28) 44°24.99′ N. lat., 124°31.22′ W. long.;

(29) 44°18.11′ N. lat., 124°43.74′ W. long.;

(30) 44°15.23′ N. lat., 124°40.47′ W. long.;

(31) 44°18.80′ N. lat., 124°35.48′ W. long.;

(32) 44°19.62′ N. lat., 124°27.18′ W. long.;

(33) 43°56.65′ N. lat., 124°16.86′ W. long.;

(34) 43°34.95′ N. lat., 124°17.47′ W. long.;

(35) 43°12.60′ N. lat., 124°35.80′ W. long.;

(36) 43°08.96′ N. lat., 124°33.77′ W. long.;

(37) 42°59.66′ N. lat., 124°34.79′ W. long.;

(38) 42°54.29′ N. lat., 124°39.46′ W. long.;

(39) 42°46.50′ N. lat., 124°39.99′ W. long.;

(40) 42°41.00′ N. lat., 124°34.92′ W. long.;

(41) 42°36.29′ N. lat., 124°34.70′ W. long.;

(42) 42°28.36′ N. lat., 124°37.90′ W. long.;

(43) 42°25.53′ N. lat., 124°37.68′ W. long.;

(44) 42°18.64′ N. lat., 124°29.47′ W. long.;

(45) 42°12.95′ N. lat., 124°27.34′ W. long.;

(46) 42°03.04′ N. lat., 124°25.81′ W. long.;

(47) 42°00.00′ N. lat., 124°26.21′ W. long.;

(48) 41°57.60′ N. lat., 124°27.35′ W. long.;

(49) 41°52.53′ N. lat., 124°26.51′ W. long.;

(50) 41°50.17′ N. lat., 124°25.63′ W. long.;

(51) 41°46.01′ N. lat., 124°22.16′ W. long.;

(52) 41°26.50′ N. lat., 124°21.78′ W. long.;

(53) 41°15.66′ N. lat., 124°16.42′ W. long.;

(54) 41°05.45′ N. lat., 124°16.89′ W. long.;

(55) 40°54.55′ N. lat., 124°19.53′ W. long.;

(56) 40°42.22′ N. lat., 124°28.29′ W. long.;

(57) 40°39.68′ N. lat., 124°28.37′ W. long.;

(58) 40°36.76′ N. lat., 124°27.39′ W. long.;

(59) 40°34.44′ N. lat., 124°28.89′ W. long.;

(60) 40°32.57′ N. lat., 124°32.43′ W. long.;

(61) 40°30.95′ N. lat., 124°33.87′ W. long.;

(62) 40°28.90′ N. lat., 124°34.59′ W. long.;

(63) 40°24.36′ N. lat., 124°31.42′ W. long.;

(64) 40°22.38′ N. lat., 124°24.41′ W. long.;

(65) 40°21.21′ N. lat., 124°24.94′ W. long.;

(66) 40°21.37′ N. lat., 124°25.58′ W. long.;

(67) 40°20.62′ N. lat., 124°26.61′ W. long.;

(68) 40°19.19′ N. lat., 124°26.14′ W. long.;

(69) 40°18.27′ N. lat., 124°24.69′ W. long.;

(70) 40°18.64′ N. lat., 124°23.67′ W. long.;

(71) 40°18.64′ N. lat., 124°22.81′ W. long.;

(72) 40°15.31′ N. lat., 124°25.28′ W. long.;

(73) 40°15.37′ N. lat., 124°26.82′ W. long.;

(74) 40°11.91′ N. lat., 124°22.68′ W. long.;

(75) 40°10.01′ N. lat., 124°19.97′ W. long.;

(76) 40°10.00′ N. lat., 124°19.97′ W. long.;

(77) 40°09.20′ N. lat., 124°15.81′ W. long.;

(78) 40°07.51′ N. lat., 124°15.29′ W. long.;

(79) 40°05.22′ N. lat., 124°10.06′ W. long.;

(80) 40°06.51′ N. lat., 124°08.01′ W. long.;

(81) 40°00.72′ N. lat., 124°08.45′ W. long.;

(82) 39°56.60′ N. lat., 124°07.12′ W. long.;

(83) 39°52.58′ N. lat., 124°03.57′ W. long.;

(84) 39°50.65′ N. lat., 123°57.98′ W. long.;

(85) 39°40.16′ N. lat., 123°52.41′ W. long.;

(86) 39°30.12′ N. lat., 123°52.92′ W. long.;

(87) 39°24.53′ N. lat., 123°55.16′ W. long.;

(88) 39°11.58′ N. lat., 123°50.93′ W. long.;

(89) 38°55.13′ N. lat., 123°51.14′ W. long.;

(90) 38°28.58′ N. lat., 123°22.84′ W. long.;

(91) 38°14.60′ N. lat., 123°09.92′ W. long.;

(92) 38°01.84′ N. lat., 123°09.75′ W. long.;

(93) 37°55.24′ N. lat., 123°08.30′ W. long.;

(94) 37°52.06′ N. lat., 123°09.19′ W. long.;

(95) 37°50.21′ N. lat., 123°14.90′ W. long.;

(96) 37°35.67′ N. lat., 122°55.43′ W. long.;

(97) 37°03.06′ N. lat., 122°24.22′ W. long.;

(98) 36°50.20′ N. lat., 122°03.58′ W. long.;

(99) 36°51.46′ N. lat., 121°57.54′ W. long.;

(100) 36°44.14′ N. lat., 121°58.10′ W. long.;

(101) 36°36.76′ N. lat., 122°01.16′ W. long.;

(102) 36°15.62′ N. lat., 121°57.13′ W. long.;

(103) 36°10.60′ N. lat., 121°43.65′ W. long.;

(104) 35°40.38′ N. lat., 121°22.59′ W. long.;

(105) 35°24.35′ N. lat., 121°02.53′ W. long.;

(106) 35°02.66′ N. lat., 120°51.63′ W. long.;

(107) 34°39.52′ N. lat., 120°48.72′ W. long.;

(108) 34°31.26′ N. lat., 120°44.12′ W. long.; and

(109) 34°27.00′ N. lat., 120°36.00′ W. long.

* * * * *

8. In section IV., under A. General Definitions and Provisions, paragraph (19)(e), section (xiii) is added to read as follows:

(xiii) The 200 fm (366 m) depth contour used between the U.S. border with Canada and the U.S. border with Mexico as a western boundary for the trawl RCA is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°3.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°14.13′ N. lat., 124°26.26′ W. long.;

(77) 46°12.81′ N. lat., 124°33.73′ W. long.;

(78) 46°12.86′ N. lat., 124°38.65′ W. long.;

(79) 46°10.81′ N. lat., 124°39.54′ W. long.;

(80) 46°09.78′ N. lat., 124°41.27′ W. long.;

(81) 46°06.44′ N. lat., 124°41.08′ W. long.;

(82) 46°03.79′ N. lat., 124°47.94′ W. long.;

(83) 46°02.31′ N. lat., 124°48.59′ W. long.;

(84) 45°59.01′ N. lat., 124°44.40′ W. long.;

(85) 45°46.91′ N. lat., 124°43.57′ W. long.;

(86) 45°44.05′ N. lat., 124°45.85′ W. long.;

(87) 45°39.96′ N. lat., 124°40.10′ W. long.;

(88) 45°38.27′ N. lat., 124°40.47′ W. long.;

(89) 45°34.80′ N. lat., 124°32.25′ W. long.;

(90) 45°13.00′ N. lat., 124°21.98′ W. long.;

(91) 45°09.59′ N. lat., 124°23.33′ W. long.;

(92) 45°11.35′ N. lat., 124°38.37′ W. long.;

(93) 45°00.22′ N. lat., 124°29.24′ W. long.;

(94) 44°55.28′ N. lat., 124°31.70′ W. long.;

(95) 44°41.42′ N. lat., 124°49.13′ W. long.;

(96) 44°21.46′ N. lat., 124°49.29′ W. long.;

(97) 44°12.43′ N. lat., 124°56.56′ W. long.;

(98) 43°58.92′ N. lat., 124°54.42′ W. long.;

(99) 43°50.76′ N. lat., 124°52.75′ W. long.;

(100) 43°47.22′ N. lat., 124°45.70′ W. long.;

(101) 43°43.11′ N. lat., 124°39.85′ W. long.;

(102) 43°20.19′ N. lat., 124°43.28′ W. long.;

(103) 43°13.29′ N. lat., 124°47.09′ W. long.;

(104) 43°13.17′ N. lat., 124°52.77′ W. long.;

(105) 43°05.65′ N. lat., 124°52.96′ W. long.;

(106) 43°00.03′ N. lat., 124°53.71′ W. long.;

(107) 42°53.90′ N. lat., 124°54.49′ W. long.;

(108) 42°49.50′ N. lat., 124°53.15′ W. long.;

(109) 42°47.50′ N. lat., 124°50.28′ W. long.;

(110) 42°46.21′ N. lat., 124°44.55′ W. long.;

(111) 42°41.30′ N. lat., 124°44.38′ W. long.;

(112) 42°38.83′ N. lat., 124°43.02′ W. long.;

(113) 42°31.92′ N. lat., 124°46.17′ W. long.;

(114) 42°32.11′ N. lat., 124°43.49′ W. long.;

(115) 42°31.03′ N. lat., 124°43.75′ W. long.;

(116) 42°28.42′ N. lat., 124°49.08′ W. long.;

(117) 42°20.36′ N. lat., 124°42.43′ W. long.;

(118) 42°15.35′ N. lat., 124°38.86′ W. long.;

(119) 42°09.59′ N. lat., 124°38.13′ W. long.;

(120) 42°04.56′ N. lat., 124°38.86′ W. long.;

(121) 42°04.45′ N. lat., 124°36.72′ W. long.;

(122) 41°59.98′ N. lat., 124°36.70′ W. long.;

(123) 41°47.85′ N. lat., 124°30.41′ W. long.;

(124) 41°43.34′ N. lat., 124°29.89′ W. long.;

(125) 41°23.47′ N. lat., 124°30.29′ W. long.;

(126) 41°21.30′ N. lat., 124°29.36′ W. long.;

(127) 41°13.53′ N. lat., 124°24.41′ W. long.;

(128) 41°06.72′ N. lat., 124°23.3′ W. long.;

(129) 40°54.67′ N. lat., 124°28.13′ W. long.;

(130) 40°49.02′ N. lat., 124°28.52′ W. long.;

(131) 40°40.45′ N. lat., 124°32.74′ W. long.;

(132) 40°34.17′ N. lat., 124°42.77′ W. long.;

(133) 40°24.99′ N. lat., 124°36.37′ W. long.;

(134) 40°22.23′ N. lat., 124°31.78′ W. long.;

(135) 40°16.95′ N. lat., 124°31.93′ W. long.;

(136) 40°17.59′ N. lat., 124°45.23′ W. long.;

(137) 40°13.41′ N. lat., 124°33.44′ W. long.;

(138) 40°06.39′ N. lat., 124°19.49′ W. long.;

(139) 40°02.35′ N. lat., 124°16.57′ W. long.;

(140) 40°0.64′ N. lat., 124°10.37′ W. long.;

(141) 39°58.28′ N. lat., 124°13.51′ W. long.;

(142) 39°56.60′ N. lat., 124°12.02′ W. long.;

(143) 39°55.20′ N. lat., 124°07.96′ W. long.;

(144) 39°52.55′ N. lat., 124°09.40′ W. long.;

(145) 39°42.68′ N. lat., 124°02.52′ W. long.;

(146) 39°35.96′ N. lat., 123°59.49′ W. long.;

(147) 39°34.62′ N. lat., 123°59.59′ W. long.;

(148) 39°33.78′ N. lat., 123°56.82′ W. long.;

(149) 39°33.02′ N. lat., 123°57.07′ W. long.;

(150) 39°32.21′ N. lat., 123°59.13′ W. long.;

(151) 39°7.85′ N. lat., 123°59.07′ W. long.;

(152) 39°00.90′ N. lat., 123°57.88′ W. long.;

(153) 38°59.95′ N. lat., 123°56.99′ W. long.;

(154) 38°56.82′ N. lat., 123°57.74′ W. long.;

(155) 38°56.40′ N. lat., 123°59.41′ W. long.;

(156) 38°50.23′ N. lat., 123°55.48′ W. long.;

(157) 38°46.77′ N. lat., 123°51.49′ W. long.;

(158) 38°45.28′ N. lat., 123°51.56′ W. long.;

(159) 38°42.76′ N. lat., 123°49.76′ W. long.;

(160) 38°41.54′ N. lat., 123°47.76′ W. long.;

(161) 38°40.98′ N. lat., 123°48.07′ W. long.;

(162) 38°38.03′ N. lat., 123°45.78′ W. long.;

(163) 38°37.20′ N. lat., 123°44.01′ W. long.;

(164) 38°33.44′ N. lat., 123°41.75′ W. long.;

(165) 38°29.45′ N. lat., 123°38.42′ W. long.;

(166) 38°27.89′ N. lat., 123°38.38′ W. long.;

(167) 38°23.68′ N. lat., 123°35.40′ W. long.;

(168) 38°19.63′ N. lat., 123°33.98′ W. long.;

(169) 38°16.23′ N. lat., 123°31.83′ W. long.;

(170) 38°14.79′ N. lat., 123°29.91′ W. long.;

(171) 38°14.12′ N. lat., 123°26.29′ W. long.;

(172) 38°10.85′ N. lat., 123°25.77′ W. long.;

(173) 38°13.15′ N. lat., 123°28.18′ W. long.;

(174) 38°12.28′ N. lat., 123°29.81′ W. long.;

(175) 38°10.19′ N. lat., 123°29.04′ W. long.;

(176) 38°07.94′ N. lat., 123°28.45′ W. long.;

(177) 38°06.51′ N. lat., 123°30.89′ W. long.;

(178) 38°04.21′ N. lat., 123°31.96′ W. long.;

(179) 38°02.07′ N. lat., 123°31.3′ W. long.;

(180) 38°00.00′ N. lat., 123°29.55′ W. long.;

(181) 37°58.13′ N. lat., 123°27.21′ W. long.;

(182) 37°55.01′ N. lat., 123°27.46′ W. long.;

(183) 37°51.40′ N. lat., 123°25.18′ W. long.;

(184) 37°43.97′ N. lat., 123°11.49′ W. long.;

(185) 37°36.00′ N. lat., 123°02.25′ W. long.;

(186) 37°13.65′ N. lat., 122°54.18′ W. long.;

(187) 37°00.66′ N. lat., 122°37.84′ W. long.;

(188) 36°57.40′ N. lat., 122°28.25′ W. long.;

(189) 36°59.25′ N. lat., 122°25.54′ W. long.;

(190) 36°56.88′ N. lat., 122°25.42′ W. long.;

(191) 36°57.40′ N. lat., 122°22.62′ W. long.;

(192) 36°55.43′ N. lat., 122°22.43′ W. long.;

(193) 36°52.29′ N. lat., 122°13.18′ W. long.;

(194) 36°47.12′ N. lat., 122°07.56′ W. long.;

(195) 36°47.10′ N. lat., 122°02.11′ W. long.;

(196) 36°43.76′ N. lat., 121°59.11′ W. long.;

(197) 36°38.85′ N. lat., 122°02.20′ W. long.;

(198) 36°23.41′ N. lat., 122°00.11′ W. long.;

(199) 36°19.68′ N. lat., 122°06.93′ W. long.;

(200) 36°14.75′ N. lat., 122°01.51′ W. long.;

(201) 36°09.74′ N. lat., 121°45.00′ W. long.;

(202) 36°06.67′ N. lat., 121°41.06′ W. long.;

(203) 35°57.07′ N. lat., 121°34.32′ W. long.;

(204) 35°52.31′ N. lat., 121°32.45′ W. long.;

(205) 35°51.21′ N. lat., 121°30.91′ W. long.;

(206) 35°46.32′ N. lat., 121°30.30′ W. long.;

(207) 35°33.74′ N. lat., 121°20.10′ W. long.;

(208) 35°31.37′ N. lat., 121°15.23′ W. long.;

(209) 35°23.32′ N. lat., 121°11.44′ W. long.;

(210) 35°15.28′ N. lat., 121°04.45′ W. long.;

(211) 35°07.08′ N. lat., 121°00.3′ W. long.;

(212) 34°57.46′ N. lat., 120°58.23′ W. long.;

(213) 34°44.25′ N. lat., 120°58.29′ W. long.;

(214) 34°32.30′ N. lat., 120°50.22′ W. long.;

(215) 34°19.08′ N. lat., 120°31.21′ W. long.;

(216) 34°17.72′ N. lat., 120°19.26′ W. long.;

(217) 34°22.45′ N. lat., 120°12.81′ W. long.;

(218) 34°21.36′ N. lat., 119°54.88′ W. long.;

(219) 34°09.95′ N. lat., 119°46.18′ W. long.;

(220) 34°09.08′ N. lat., 119°57.53′ W. long.;

(221) 34°07.53′ N. lat., 120°06.35′ W. long.;

(222) 34°10.54′ N. lat., 120°19.07′ W. long.;

(223) 34°14.68′ N. lat., 120°29.48′ W. long.;

(224) 34°09.51′ N. lat., 120°38.32′ W. long.;

(225) 34°03.06′ N. lat., 120°35.54′ W. long.;

(226) 33°56.39′ N. lat., 120°28.47′ W. long.;

(227) 33°50.25′ N. lat., 120°09.43′ W. long.;

(228) 33°37.96′ N. lat., 120°00.08′ W. long.;

(229) 33°34.52′ N. lat., 119°51.84′ W. long.;

(230) 33°35.51′ N. lat., 119°48.49′ W. long.;

(231) 33°42.76′ N. lat., 119°47.77′ W. long.;

(232) 33°53.62′ N. lat., 119°53.28′ W. long.;

(233) 33°57.61′ N. lat., 119°31.26′ W. long.;

(234) 33°56.34′ N. lat., 119°26.4′ W. long.;

(235) 33°57.79′ N. lat., 119°26.85′ W. long.;

(236) 33°58.88′ N. lat., 119°20.06′ W. long.;

(237) 34°02.65′ N. lat., 119°15.11′ W. long.;

(238) 33°59.02′ N. lat., 119°02.99′ W. long.;

(239) 33°57.61′ N. lat., 118°42.07′ W. long.;

(240) 33°50.76′ N. lat., 118°37.98′ W. long.;

(241) 33°38.41′ N. lat., 118°17.03′ W. long.;

(242) 33°37.14′ N. lat., 118°18.39′ W. long.;

(243) 33°35.51′ N. lat., 118°18.03′ W. long.;

(244) 33°30.68′ N. lat., 118°10.35′ W. long.;

(245) 33°32.49′ N. lat., 117°51.85′ W. long.;

(246) 32°58.87′ N. lat., 117°20.36′ W. long.; and

(247) 32°35.53′ N. lat., 117°29.67′ W. long.

* * * * *

9. In section IV., under A. General Definitions and Provisions, paragraph (19)(e), section (xiv) is added to read as follows:

(xiv) The 200 fm (366 m) depth contour used around islands/seamounts off the state of California is defined by straight lines around each island/seamount connecting all of the following points in the order stated:

San Nicholas Island

(1) 33°33.55′ N. lat., 119°46.40′ W. long.;

(2) 33°13.88′ N. lat., 119°13.86′ W. long.;

(3) 33°11.39′ N. lat., 119°16.95′ W. long.;

(4) 33°10.59′ N. lat., 119°28.53′ W. long.;

(5) 33°12.19′ N. lat., 119°53.99′ W. long.;

(6) 33°33.25′ N. lat., 119°53.35′ W. long.; and

(7) 33°33.55′ N. lat., 119°46.40′ W. long.

Santa Catalina Island

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

San Clemente Island

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

Santa Barbara Island

(1) 33°47.03′ N. lat., 119°13.65′ W. long.;

(2) 33°35.80′ N. lat., 118°57.48′ W. long.;

(3) 33°28.80′ N. lat., 118°57.48′ W. long.;

(4) 33°20.36′ N. lat., 118°59.96′ W. long.;

(5) 33°22.11′ N. lat., 119°08.50′ W. long.;

(6) 33°32.41′ N. lat., 119°13.96′ W. long.;

(7) 33°44.35′ N. lat., 119°16.84′ W. long.; and

(8) 33°47.03′ N. lat., 119°13.65′ W. long.

Orange County Seamount

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

Mira's San Diego Rise

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

* * * * *

10. On pages 11218-11219, in section IV., under B. Limited Entry Fishery, at the end of paragraph (1), Table 3 (North) and Table 3 (South) are revised to read as follows:

IV. NMFS Actions

B. Limited Entry Fishery

(1) * * *

* * * * *

11. On page 11225, in section IV., under C. Trip Limits in the Open Access Fishery, at the end of paragraph (1), Table 5 (South) is revised to read as follows:

IV. NMFS Actions

C. Trip Limits in the Open Access Fishery

(1) * * *

BILLING CODE 3510-22-C

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(B), because providing prior notice and opportunity for comment would be impracticable. It would be impracticable because it would delay the implementation of the new trawl RCA boundaries along the West Coast to better align with the interception of certain overfished species, specifically canary rockfish and bocaccio. Implementation of the new trawl RCA boundaries will allow opportunity to harvest healthy groundfish stocks in areas where overfished species are less likely to occur. The West Coast groundfish fleet has endured cutbacks in harvest limits and areas fished over the last few years. Delaying implementation of the new trawl RCA boundaries would result in continued closure of large areas north of 40°10′ N. lat., with adverse economic effects on the trawl fleet. In addition, the affected public had the opportunity to comment on these actions at the April 7-11, 2003, Pacific Council meeting. For these reasons, good cause also exists to waive the 30-day delay in effectiveness requirement of 5 U.S.C. 553 (d)(3). In addition, most provisions being implemented relieve restrictions and for that reason are not subject to a 30-day delay in effectiveness under 5 U.S.C. 553(d)(1).

These actions are taken under the authority of 50 CFR 660.323(b)(1), and are exempt from review under Executive Order 12866.

Authority: 16 U.S.C. 1801 et seq.

Dated: May 27, 2003.
Bruce C. Morehead,
Acting Director, Office of Sustainable Fisheries, National Marine Fisheries Service.

[FR Doc. 03-13704 Filed 5-28-03; 3:45pm]

BILLING CODE 3510-22-S